DEPARTMENT OF TRANSPORTATION

Federal Aviation Administration

14 CFR Part 71

[Docket No. FAA-2008-0454; Airspace Docket No. 08-AAL-13]

Establishment of Class E Airspace; Napakiak, AK

AGENCY: Federal Aviation Administration (FAA), DOT.

ACTION: Final rule; correction.

SUMMARY: This action corrects an error in the airspace description contained in a Final Rule that was published in the Federal Register on Thursday, November 20, 2008 (73 FR 70271). Airspace Docket No. 08-AAL-13.

DATES: Effective Date: 0901 UTC, January 15, 2009.

FOR FURTHER INFORMATION CONTACT: Gary Rolf, AAL-538G, Federal Aviation Administration, 222 West 7th Avenue, Box 14, Anchorage, AK 99513-7587; telephone number (907) 271-5898; fax: (907) 271-2850; e-mail: gary.ctr.rolf@faa.gov. Internet address: http://www.faa.gov/about/office_org/headquarters_offices/ato/service_units/systemops/fs/alaskan/rulemaking/.

SUPPLEMENTARY INFORMATION:

History

Federal Register Docket FAA-2008-0454, Airspace Docket No. 08-AAL-13, published on Thursday, November 20, 2008 (73 FR 70271), established Class E airspace at Napakiak, AK. A typographical error was discovered in the airspace description defining the airport location. This action corrects that error.

Correction to Final Rule

Accordingly, pursuant to the authority delegated to me, the airspace description of the Class E airspace published in the Federal Register, Thursday, November 20, 2008 (73 FR 70271), Docket No. FAA-2008-0454, Airspace Docket No. 08-AAL-15, page 70272, column 2 is corrected as follows:

§ 71.1 [Corrected]

* * * * *

AAL AK E5 Napakiak, AK [Corrected]

Napakiak, Napakiak Airport, AK

(Lat. 60°41′25″ N., long. 161°58′43″ W.)

That airspace extending upward from 700 feet above the surface within a 6.3-mile radius of the Napakiak Airport, AK; and that airspace extending upward from 1,200 feet above the surface within a 84-mile radius of the Napakiak Airport, AK.

* * * * *

Issued in Anchorage, AK, on December 4, 2008.
Anthony M. Wylie,
Manager, Alaska Flight Services Information Area Group.

[FR Doc. E8-30390 Filed 12-22-08; 8:45 am]

BILLING CODE 4910-13-P